DEPARTMENT OF THE INTERIOR

Bureau of Indian Affairs

[156A2100DD/AAKC001030/A0A501010.999900 253G]

Renewal of Agency Information Collection for Data Elements for Student Enrollment in Bureau-funded Schools

AGENCY: Bureau of Indian Affairs, Interior.

ACTION: Notice of request for comments.

SUMMARY: In compliance with the Paperwork Reduction Act of 1995, the Bureau of Indian Education (BIE) is seeking comments on the renewal of Office of Management and Budget (OMB) approval for the collection of information for Data Elements for Student Enrollment in Bureau-funded Schools, authorized by OMB Control Number 1076-0122. This information collection expires August 31, 2015.

DATES: Submit comments on or before June 29, 2015.

ADDRESSES: You may submit comments on the information collection to: Ms. Jacquelyn Cheek, Special Assistant to the Director, Bureau of Indian Education, 1849 C Street NW., Mailstop 4657-MIB, Washington, DC 20240; facsimile: (202) 208-3312; or email to: Jacklyn.Cheek@bia.edu.

FOR FURTHER INFORMATION CONTACT: Ms. Jacquelyn Cheek, phone: (202) 208-6983.

SUPPLEMENTARY INFORMATION:

I. Abstract

The BIE is requesting renewal of OMB approval for the admission forms for the Student Enrollment Application in Bureau-funded Schools. School registrars collect information on this form to determine the student's eligibility for enrollment in a Bureau-funded school, and if eligible, is shared with appropriate school officials to identify the student's base and supplemental educational and/or residential program needs. The BIE compiles the information into a national database to facilitate budget requests and the allocation of congressionally appropriated funds.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0122.

Title: Data Elements for Student Enrollment in Bureau-funded Schools.

Brief Description of Collection: This annual collection provides Bureau-funded schools with data about students that impacts placement, special needs assessments, and funding for individuals and assists schools in developing a plan for the school year. The information is collected on a Student Enrollment Application form.

Type of Review: Extension without change of currently approved collection.

Respondents: Contract and Grant schools; Bureau-operated schools.

Number of Respondents: 48,000 per year, on average.

Frequency of Response: Once per year.

Estimated Time per Response: 15 minutes.

Estimated Total Annual Hour Burden: 12,000 hours.

Estimated Total Annual Non-Hour Dollar Cost: $0.

Elizabeth K. Appel,
Director, Office of Regulatory Affairs and Collaborative Action—Indian Affairs.

[FR Doc. 2015-10095 Filed 4-29-15; 8:45 am]

BILLING CODE 4437-15-P